DEPARTMENT OF COMMERCE

International Trade Administration

[A-337-803]

Fresh Atlantic Salmon From Chile: Extension of Preliminary Results of Antidumping Duty Administrative Review

AGENCY: Import Administration, International Trade Administration, Department of Commerce.

EFFECTIVE DATE: May 6, 2003.

FOR FURTHER INFORMATION CONTACT: Salim Bhabhrawala or Constance Handley at (202) 482-1784 or (202) 482-0631, Office of AD/CVD Enforcement 5, Import Administration, International Trade Administration, U.S. Department of Commerce, 14th Street and Constitution Avenue, NW., Washington, DC 20230.

Time Limits

Statutory Time Limits

Section 751(a)(3)(A) of the Tariff Act of 1930, as amended (the Act), requires the Department of Commerce (the Department) to complete the preliminary results of an administrative review within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested, and for the final results to 180 days (or 300 days if the Department does not extend the time limit for the preliminary results) from the date of publication of the preliminary results.

Background

On August 27, 2002, the Department of Commerce (the Department) published a notice of initiation of administrative review of the antidumping duty order on fresh Atlantic salmon from Chile, covering the period July 1, 2001, through June 30, 2002. See Initiation of Antidumping and Countervailing Duty Administrative Reviews and Requests for Revocation in Part, 67 FR 55000 (August 27, 2003). The preliminary results of this proceeding were due no later than April 2, 2003.

On March 17, 2003, the Department determined that it was not practicable to complete the preliminary results of this review within the original time limit and extended the time limit for the completion of the preliminary results until no later than May 1, 2003. See Fresh Atlantic Salmon from Chile: Extension of Preliminary Results of Antidumping Duty Administrative Review, 68 FR 12671 (March 17, 2003); see also Memorandum from Gary Taverman, Director, Office 5 to Holly Kuga, Acting Deputy Assistant Secretary Re: Extension of Time Limit for Preliminary Results of Review (March 11, 2003), which is on file in the Central Records Unit, Room B-099 of the main Commerce building.

On April 29, 2003, L.R. Enterprises submitted a letter withdrawing all of its requests for reviews. In its letter, L.R. Enterprises stated that it had no further interest in maintaining the order. Respondents Pesquera Eicosal Ltda., Cultivadora de Salmones Linao Ltda., and Salmones Tecmar S.A. also submitted letters withdrawing their requests for review.

In addition, on the same day, U.S. fresh Atlantic salmon producers Atlantic Salmon of Maine, Cypress Island, Inc., Heritage Salmon Inc., Maine Nordic Salmon and Stolt Sea Farm Inc., submitted requests that the Department conduct a changed circumstances review for the purposes of revoking the order pursuant to Section 751(b)(1)(A) of the Act and 19 CFR 351.222(g). All of these U.S. producers stated that they were no longer interested in maintaining the order.

Extension of Time Limit for Preliminary Results of Review

The Department needs time to consider L.R. Enterprises recent notification that it is no longer interested in maintaining the order, and the requests for a changed circumstances review. Because we are considering initiating a changed circumstance review in the near future, we determine that it is not practicable to complete the preliminary results of this review within the time limit. Therefore, the Department is further extending the time limit for completion of the preliminary results until no later than July 31, 2003. We intend to issue the final results no later than 120 days after publication of the preliminary results notice.

This extension is in accordance with section 751(a)(3)(A) of the Act.

Dated: May 1, 2003.
Holly A. Kuga,
Acting Deputy Assistant Secretary for AD/CVD Enforcement II.

[FR Doc. 03-11178 Filed 5-5-03; 8:45 am]

BILLING CODE 3510-DS-P